DEPARTMENT OF STATE

[Public Notice 5024]

U.S. National Commission for UNESCO Notice of Meeting

The U.S. National Commission for UNESCO will meet in open FACA session on Tuesday, June 7, 2005, at Georgetown University, Washington, DC from 10 until 12:30. The commission will also have a series of informational plenary and panel subject committee sessions on Monday, June 6 and Tuesday morning to which the public may attend. This will be the first annual conference of the re-established commission in nearly twenty years. The mission of the national commission is to advise the Department of State with respect to the consideration of issues related to education, science, communications, and culture and the formulation and implementation of U.S. policy towards UNESCO. At this meeting, the commission plans to establish work plans for its five (education, culture, natural science, social and human science, and communications and information) committees.

Members of the public who wish to attend the meeting must contact the U.S. National Commission for UNESCO no later than Friday, May 20th for further information about admission as seating is limited. Additionally, those who wish to make oral comments or deliver written comments should also request to be scheduled, and submit a written text of the comments by Friday, May 20th to allow time for distribution to the Commission members prior to the meeting. Individual oral comments will be limited to five minutes, with the total oral comment period not exceeding thirty-minutes. The national commission may be contacted via e-mail at DCUNESCO@state.gov, or via phone at (202) 663-0026.

Dated: April 20, 2005.
Alexander Zemek,
Deputy Executive Secretary, U.S. National Commission for UNESO, Department of State.

[FR Doc. 05-8306 Filed 4-25-05; 8:45 am]

BILLING CODE 4710-19-P